FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Associate Director, Mitigation Directorate, certifies that this rule is exempt from the requirements of the Regulatory Flexibility Act because final or modified base flood elevations are required by the Flood Disaster Protection Act of 1973, 42 U.S.C. 4104, and are required to establish and maintain community eligibility in the National Flood Insurance Program. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
ALABAMA
Northport (City), Tuscaloosa County (FEMA Docket No. 7295)
Twomile Creek Tributary No. 5:
Approximately 100 feet upstream of confluence with Twomile Creek | *184
Approximately 710 feet upstream of confluence with Twomile Creek | *186
Maps available for inspection at the City of Northport City Hall, 3500 McFarland Boulevard, Northport, Alabama.
———
Tuscaloosa (City), Tuscaloosa County (FEMA Docket No. 7295)
Bee Branch:
At confluence with Hurricane Creek | *214
Approximately 1,600 feet downstream of westbound Route 59 | *278
Cottondale Creek Tributary No. 1:
At confluence with Cottondale Creek | *249
Approximately 1,600 feet upstream of 56th Street East Dam | *298
Cottondale Creek Tributary No. 1A:
At confluence with Cottondale Creek Tributary No. 1 | *268
Approximately 2,450 feet upstream of center point of Interstate 59 and 20/JVC Road culvert | *288
Cypress Creek:
Approximately 2,400 feet downstream of Kauloosa Avenue | *148
Approximately 800 feet downstream of Springshill Drive | *301
Cribbs Mill Creek:
Approximately 1,000 feet downstream of 2nd Avenue East | *181
Approximately 630 feet upstream of East 17th Street | *259
Moody Swamp Tributary No. 2:
Approximately 660 feet downstream of 31st Street | *142
Approximately 525 feet downstream of 25th Street | *159
Moody Swamp Tributary No. 3:
Approximately 175 feet downstream of Martin Luther King Jr. Boulevard | *141
Approximately 200 feet upstream of 10th Avenue | *179
Maps available for inspection at the City of Tuscaloosa Planning Office, City Hall, 2201 University Boulevard, Tuscaloosa, Alabama.
———
Tuscaloosa County (Unincorporated Areas) (FEMA Docket No. 7295)
Bee Branch:
Approximately 1,600 feet downstream of Westbound Route 59 | *278
Approximately 400 feet downstream of Westbound Route 59 | *284
Maps available for inspection at the Tuscaloosa County Planning Department, 2902 6th Street, Tuscaloosa, Alabama.
CONNECTICUT
Shelton (City), Fairfield County (FEMA Docket No. 7303)
Farmill River:
Approximately 160 feet upstream from confluence of Means Brook | *236
Approximately 140 feet upstream of Farmill Road | *355
Maps available for inspection at the Shelton City Hall, 54 Hill Street, Shelton, Connecticut.
———
Wallingford (Town), New Haven County (FEMA Docket No. 7303)
Quinnipiac River:
Approximately 1,560 feet downstream of Toelles Road | *23
Approximately 1.09 miles upstream of Oak Street | *70
Maps available for inspection at the Town of Wallingford Department of Planning & Zoning, 45 South Main Street, Wallingford, Connecticut.
GEORGIA
Blue Ridge (City), Fannin County (FEMA Docket No. 7295)
Mineral Springs Creek:
Approximately 650 feet upstream of private drive | *1,669
Approximately 720 feet upstream of private drive | *1,671
Maps available for inspection at the Fannin County Land Development Office, 171 Church Street, Blue Ridge, Georgia.
Fannin County (Unincorporated Areas) (FEMA Docket No. 7295)
———
Wilscot Creek:
Approximately 580 feet downstream of Old Dial Road | *1,726
Approximately 0.73 mile upstream of State Route 60 | *1,920
Sugar Creek:
Approximately 50 feet downstream of CSX Transportation | *1,509
At Maxwell Road | *1,830
Stanley Creek:
Approximately 200 feet downstream of Aska Road | *1,764
Approximately 0.64 mile upstream of Stanley Creek Road | *1,816
Big Creek:
At confluence with Toccoa River | *1,820
Approximately 1.53 miles upstream of Big Creek Road | *1,943
Noontootla Creek:
At confluence with Toccoa River | *1,838
Approximately 1.04 miles upstream of Doublehead Gap Road | *2,025
Fightingtown Creek:
Approximately 0.21 mile downstream of West Tennessee Avenue | *1,460
Approximately 1.57 miles upstream of Old Highway 2 | *1,805
Cooper Creek:
Approximately 0.51 mile downstream of State Route 60 | *2,002
Approximately 3.54 miles upstream of State Route 60 | *2,087
Hothouse Creek:
Approximately 2.61 miles downstream of State Route 60 | *1,502
Approximately 1.35 miles upstream of Laurel Springs Road | *1,681
Middle Reach Toccoa River:
Approximately 3.01 miles downstream of Shallowford Road | *1,720
Approximately 1.1 miles upstream of Doublehead Gap Road | *1,880
Upper Reach Toccoa River:
At confluence with Cooper Creek | *2,002
Approximately 0.53 mile upstream of Private Drive (2nd) | *2,041
Hemptown Creek:
Approximately 300 feet downstream of Cutcane Road | *1,563
Approximately 0.85 mile upstream of Holly Ridge Lane | *1,804
Lower Reach Toccoa River:
Approximately 400 feet upstream from CSX Transportation | *1,468
Approximately 600 feet upstream from CSX Transportation | *1,468
Maps available for inspection at the Fannin County Land Development Office, 171 Church Street, Blue Ridge, Georgia.
———
Floyd County (Unincorporated Areas) (FEMA Docket No. 7299)
Coosa River:
Approximately 1.20 miles downstream of the confluence of Horseleg Creek | *594
Approximately 0.36 mile upstream of the confluence of Horseleg Creek | *595
Horseleg Creek:
At Horseleg Creek Road southwest | *596
Just downstream of confluence of South Fork Horseleg Creek | *607
South Fork Horseleg Creek:
Approximately 475 feet downstream of Terry Lane | *626
Approximately 449 feet upstream of Terry Lane | *630
Maps available for inspection at the Floyd County Public Works, 337 Blacks Bluff Road, Rome, Georgia.
———
McCaysville (City), Fannin County (FEMA Docket No. 7295)
Toccoa River:
Approximately 200 feet south of intersection of Hill Road and River Road | *1,468
Maps available for inspection at the McCaysville City Hall, 223 Blue Ridge Drive, McCaysville, Georgia.
———
Rome (City), Floyd County (FEMA Docket No. 7299)
Coosa River:
Approximately 1.20 miles downstream of confluence of Horseleg Creek (at corporate limits) | *594
Approximately 1,800 feet downstream of the confluence of Etowah River | *595
Etowah River:
Approximately 2,400 feet upstream of the confluence of Tributary A | *600
Little Dry Creek:
At Charlton Street | *597
At Redmond Road | *597
Maps available for inspection at the City of Rome Building Inspection Department, 601 Broad Street, Rome, Georgia.
ILLINOIS
Buffalo Grove (Village), Lake County (FEMA Docket No. 7263)
Des Plaines River:
At Lake-Cook county boundary | *644
Approximately 0.89 mile upstream of Deerfield Road | *646
Aptakisic Creek:
Approximately 625 feet upstream of Milwaukee Avenue | *645
Approximately 1,900 feet upstream of Busch Parkway | *646
Maps available for inspection at the Buffalo Grove Engineer's Office, 50 Raupp Boulevard, Buffalo Grove, Illinois.
———
DeKalb (City), DeKalb County (FEMA Docket No. 7199)
South Branch Kishwaukee River:
Approximately 0.8 mile downstream of Bethany Road | *833
Approximately 0.38 mile upstream of East-West Toll Road | *854
Maps available for inspection at the City of DeKalb City Hall, Engineering Department, 200 South Fourth Street, DeKalb, Illinois.
———
DeKalb County (Unincorporated Areas) (FEMA Docket No. 7199)
South Branch Kishwaukee River:
Approximately 1,480 feet downstream of County Line Road | *732
At Gurler Road | *856
Blue Heron Creek:
At the confluence with East Branch South Branch Kishwaukee River | *824
Approximately 5 feet upstream of State Route 23 | *840
East Branch South Branch Kishwaukee River:
At the confluence with South Branch Kishwaukee River | *824
At Barber Greene Road | *842
———
Little Rock Creek:
Approximately 1.6 miles downstream of Oak Street | *717
At Duffy Road | *748
Maps available for inspection at the DeKalb County Administrator Building, 110 East Sycamore Street, Sycamore, Illinois.
Genoa (City), DeKalb County (FEMA Docket No. 7199)
South Branch Kishwaukee River:
Approximately 0.4 mile downstream of Soo Line Railroad | *794
Approximately 1.4 miles upstream of State Highway 72 | *801
Maps available for inspection at the Genoa City Hall, Public Works, 113 North Genoa Street, Genoa, Illinois.
———
Gurnee (Village), Lake County (FEMA Docket No. 7263)
Des Plaines River:
Approximately 500 feet downstream of Belvidere Road | *665
Approximately 2.45 miles upstream of Skokie Highway | *669
Gurnee Tributary:
At confluence with Des Plaines River | *667
At State Route 132 (approximately 250 feet upstream of Wisconsin Central Limited Railroad) | *667
Suburban Country Club Tributary:
Approximately 50 feet upstream of Wisconsin Central Limited Railroad | *668
Approximately 1,100 feet upstream of Unnamed Road | *668
Maps available for inspection at the Gurnee Village Engineering Department, 325 North O'Plaine Road, Gurnee, Illinois.
Hinckley (Village), DeKalb County (FEMA Docket No. 7199)
Little Rock Creek:
Approximately 750 feet downstream of Oak Street | *729
Approximately 1,000 feet upstream of South View Street | *734
Maps available for inspection at the Village of Hinckley Village Hall, 131 East Lincoln Avenue, Hinckley, Illinois.
———
Kingston (Village), DeKalb County (FEMA Docket No. 7199)
South Branch Kishwaukee River:
Approximately 0.29 mile downstream of Main Street | *786
Approximately 0.79 mile upstream of Main Street | *789
Maps available for inspection at the Kingston City Hall, 101 East Railroad, P.O. Box 214, Kingston, Illinois.
Kirkland (Village), DeKalb County (FEMA Docket No. 7199)
South Branch Kishwaukee River:
Approximately 1,300 feet downstream of Kirkland Road | *758
At Pearl Street | *763
Maps available for inspection at the Village of Kirkland Municipal Building, 511 West Main Street, Kirkland, Illinois.
Lake County (Unincorporated Areas) (FEMA Docket No. 7263)
Des Plaines River:
At Lake-Cook county boundary | *644
At state boundary | *676
Des Plaines River Tributary (at Russell):
At confluence with Des Plaines River | *675
Just downstream of Kilbourne Road | *675
Suburban Country Club Tributary:
At confluence with Des Plaines River | *668
Just downstream of Delaney Road | *668
Bull Creek:
Confluence with Des Plaines River | *661
Approximately 140 feet upstream of Unnamed Road | *661
Tributary No. 1:
At confluence with Des Plaines River | *658
Just downstream of confluence of Tributary No. 1 with Meadow Haven Creek | *658
Aptakisic Creek:
At confluence with Des Plaines River | *645
Approximately 1,900 feet upstream of Busch Parkway | *646
Mill Creek:
Downstream side of Skokie Highway (U.S. Route 41) | *670
Approximately 1,100 feet downstream of Dilleys Road | *670
Maps available for inspection at the Lake County Office of Planning and Development, Division of Building and Zoning, 5th Floor, 18 North County Street, Waukegan, Illinois.
———
Des Plaines River:
Approximately 1,900 feet upstream of State Route 60 (Townline Road) (at corporate limits) | *652
Upstream side of Buckley Road (at corporate limits) | *660
Maps available for inspection at the Libertyville Village Public Works Department, Engineering Division, 200 East Cook Avenue, Libertyville, Illinois.
———
Lincolnshire (Village), Lake County (FEMA Docket No. 7263)
Des Plaines River:
Approximately 1.76 miles upstream of Deerfield Road | *647
Approximately 0.95 mile downstream of Halfday Road (State Route 22) | *647
Maps available for inspection at the Lincolnshire Village Hall, One Olde Half Day Road, Lincolnshire, Illinois.
———
Mettawa (Village), Lake County (FEMA Docket No. 7263)
Des Plaines River:
Approximately 1.02 miles downstream of State Route 60 (Townline Road) | *650
Approximately 0.68 mile downstream of Rockland Road | *655
Maps available for inspection at the Mettawa Village Hall, 1000 Allanson Road, Mundelein, Illinois.
———
Riverwoods (Village), Lake County (FEMA Docket No. 7263)
Des Plaines River:
Approximately 600 feet upstream of Lake-Cook Road | *645
Approximately 0.92 mile upstream of Deerfield Road | *646
Maps available for inspection at the Riverwoods Village Hall, 300 Portwine Road, Riverwoods, Illinois.
———
Sycamore (City), DeKalb County (FEMA Docket No. 7199)
South Branch Kishwaukee River:
Approximately 1,000 feet upstream of Coltonville Road | *832
Approximately 1,500 feet downstream of Bethany Road | *835
East Branch South Branch Kishwaukee River:
At approximately 0.47 mile downstream of Brick Road | *826
At approximately 0.5 mile downstream of State Route 64 | *836
Blue Heron Creek:
Approximately 950 feet downstream of Brickville Road | *834
Approximately 250 feet downstream of Brickville Road | *835
Maps available for inspection at the Sycamore City Hall, Engineering Department, 535 DeKalb Avenue, Sycamore, Illinois.
———
Vernon Hills (Village), Lake County (FEMA Docket No. 7263)
Des Plaines River:
Approximately 1.02 miles downstream of State Route 60 (Townline Road) | *650
Approximately 1,900 feet upstream of State Route 60 (Townline Road) at corporate limits | *650
Maps available for inspection at the Vernon Hills Public Works Department, 490 Greenleaf Drive, Vernon Hills, Illinois.———
Wadsworth (Village), Lake County (FEMA Docket No. 7263)
Des Plaines River:
Approximately 1.16 miles downstream of McCarthy Road | *669
Approximately 1.6 miles upstream of Wadsworth Road | *671
Mill Creek:
At confluence with Des Plaines River | *670
Approximately 1,100 feet downstream of Dilleys Road | *670
Maps available for inspection at the Wadsworth Village Hall, 14155 Wadsworth Road, Wadsworth, Illinois.
INDIANA
New Albany (City), Floyd County (FEMA Docket No. 7247)
Fall Run:
At confluence with Falling Run | *443
At downstream side of Grant Line Road | *443
Falling Run:
At Ohio River levee | *438
At Janie Drive | *474
Middle Creek:
Approximately 150 feet downstream of State Route 111 | *448
Approximately 75 feet upstream of upstream crossing of Southern Railway | *472
Vincennes Run:
At confluence with Middle Creek | *448
Approximately 70 feet upstream of Eagle Lane | *471
Maps available for inspection at the City of New Albany City-County Building, Board of Public Works, Room 317, 311 Hauss Square, New Albany, Indiana.
Easton (Town), Bristol County (FEMA Docket No. 7303)
Gowards Brook:
Approximately 1,300 feet downstream of Norton Avenue | *94
Approximately 100 feet upstream of State Route 106 | *141
Maps available for inspection at the Town of Easton Planning & Zoning Department, 136 Elm Street, Easton, Massachusetts.
———
Randolph (Town), Norfolk County (FEMA Docket No. 7299)
Cochato River:
At downstream corporate limits | *105
At Randolph/Holbrook corporate limits, approximately 1,200 feet upstream of Private Dam | *119
Maps available for inspection at the Randolph Town Hall, 1 Turner Lane, Randolph, Massachusetts.
MICHIGAN
Howell (City), Livingston County (FEMA Docket No. 7283)
Thompson Lake:
Entire shoreline within community | *907
Bogue Creek:
Approximately 530 feet downstream of Sluice Gate | *892
Approximately 590 feet upstream of Sluice Gate | *907
Maps available for inspection at the City Hall, 611 East Grand River, Howell, Michigan.
MINNESOTA
Houston (City), Houston County (FEMA Docket No. 7303)
Root River:
Approximately 0.5 mile downstream of Grant Street (State Route 76) | *682
Approximately 0.6 mile upstream of Grant Street (State Route 76) | *686
Outlet A-1:
Approximately 100 feet south of intersection of Washington and Elm Streets | *682
Outlet A-2:
Approximately 400 feet north of intersection of Plum and Grant Streets | *681
Outlet B:
Approximately 150 feet northeast of intersection of Henderson and Elm Streets | *679
Maps available for inspection at the Houston City Hall, 105 West Maple Street, Houston, Minnesota.
MISSISSIPPI
Shubuta (Town), Clarke County (FEMA Docket No. 7291)
Chickasawhay River:
Approximately 2,900 feet downstream of First Street (County Route 612) | *191
Approximately 1.26 miles upstream of First Street (County Route 612) | *197
Maps available for inspection at the Shubuta Town Hall, 156 Eucutta Street, Shubuta, Mississippi.
NEW JERSEY
Bay Head (Borough), Ocean County (FEMA Docket No. 7251)
Atlantic Ocean:
At the intersection of Grove Avenue and Club Drive | *5
At intersection of Karge Street and Main Street | #1
Approximately 400 feet east from the intersection of East Avenue and Chadwick Street | *15
Bay Head Harbor:
At intersection of Grove Street and Holly Avenue | *5
Approximately 1,000 feet northwest of intersection of Lake Avenue and Johnson Street | *5
Maps available for inspection at the Bay Head Borough Hall, 81 Bridge Avenue, Bay Head, New Jersey.
NEW YORK
Watson (Town), Lewis County (FEMA Docket No. 7295)
Black River:
At approximately 140 feet downstream of downstream corporate limits | *743
At upstream corporate limits | *747
Maps available for inspection at the Watson Town Hall, Clerk's Office, Star Route, Lowville, New York.
NORTH CAROLINA
Albemarle (City), Stanly County (FEMA Docket No. 7299)
Little Long Creek:
From a point approximately 1,200 feet downstream of Morgan Road | *410
To a point approximately 100 feet downstream of Centerview Church Road | *478
Poplin Creek:
At the confluence with Little Long Creek | *416
To a point approximately 0.50 mile downstream of Aquadale Road | *419
Town Creek:
At the confluence with Little Long Creek | *446
To a point approximately 9.75 feet downstream of Snuggs Road | *449
Maps available for inspection at the City of Albemarle Engineering Department, 144 North Second Street, Albemarle, North Carolina.
———
Davidson County (Unincorporated Areas) (FEMA Docket No. 7303)
Hasty Creek:
Approximately 800 feet upstream of confluence with Hunts Fork | *720
Approximately 250 feet downstream of NCSR 1781 | *747
Payne Creek:
Approximately 225 feet downstream of NCSR 1757 | *736
Approximately 0.96 mile upstream of confluence of Payne Creek Tributary | *766
Payne Creek Tributary:
At confluence with Payne Creek | *744
Approximately 1.1 miles upstream from Canterbury Road | *782
Rich Fork:
Approximately 0.5 mile downstream of NCSR 1755 | *709
Approximately 0.4 mile upstream of NCSR 1741 | *765
Rich Fork Tributary:
At confluence with Rich Fork | *765
Approximately 780 feet upstream of NCSR 1739 | *780
Stream No. 97:
At confluence with Stream No. 99 | *747
Approximately 0.74 mile upstream from confluence with Stream No. 99 | *764
Stream No. 99:
At confluence with Payne Creek | *731
Approximately 0.71 mile upstream from confluence of Stream No. 97 | *778
Maps available for inspection at the Davidson County Governmental Center, 913 Greensboro Street, Lexington, North Carolina.
———
Lexington (City), Davidson County (FEMA Docket No. 7303)
Darr Branch:
At confluence with Abbotts Creek | *641
Downstream side of Tanyard Street | *724
Darr Drain:
At confluence with Darr Branch | *652
Approximately 1,025 feet upstream of Young Drive | *676
Nokomis Branch:
At confluence with Darr Branch | *659
Approximately 80 feet upstream of North Pine Street | *743
Twin Creek:
At a point approximately 250 feet upstream of confluence with Abbotts Creek | *635
Approximately 0.43 mile upstream of confluence with Abbotts Creek | *661
Twin Creek Tributary:
Approximately 475 feet upstream of confluence with Abbotts Creek | *636
At a point approximately 1,600 feet upstream of confluence with Abbotts Creek | *654
Maps available for inspection at the City of Lexington Community Development Department, 28 West Center Street, Lexington, North Carolina.
———
Stanly County (Unincorporated Areas) (FEMA Docket No. 7299)
Little Long Creek:
From a point approximately 1,200 feet downstream of Morgan Road | *410
To a point approximately 200 feet downstream of Morgan Road | *412
Rocky River:
At a point approximately 3.1 miles downstream of State Route 1145 (River Road) | *475
At a point approximately 300 feet at upstream county boundary | *482
Maps available for inspection at the Stanly County Planning & Zoning Department, 201 South Second Street, 3rd Floor, Albemarle, South Carolina.
OHIO
Warren County (Unincorporated Areas) (FEMA Docket No. 7309)
Bear Run:
Approximately 120 feet upstream of Hopkins Road | *727
Approximately 25 feet upstream of Zoar Road | *818
Newman Run:
At downstream side of U.S. Route 42 | *721
At confluence with North Fork Newman Run | *767
North Fork Newman Run:
At confluence with Newman Run | *767
At upstream side of Lytle Road | *974
Salt Run:
Approximately 1,350 feet upstream of confluence with Little Miami River | *599
Approximately 30 feet on the upstream side of Morrow-Cozdale Road | *842
Satterthwaites Run:
Approximately 0.79 mile above the confluence with the Little Miami River Mill Run Channel | *808
At the upstream side of Lytle Road | *971
Maps available for inspection at the Warren County Map Room, 320 East Silver Street, Lebanon, Ohio.
———
Waynesville (Village), Warren County (FEMA Docket No. 7309)
Satterthwaites Run:
Approximately 400 feet downstream of U.S. Route 42 | *725
At upstream corporate limits | *837
Maps available for inspection at the Waynesville Village Hall, 291 Church Street, Waynesville, Ohio.
PENNSYLVANIA
Freeport (Borough), Armstrong County (FEMA Docket No. 7291)
Buffalo Creek:
At confluence with Allegheny River | *768
Approximately 0.22 mile upstream of CONRAIL spur | *768
Allegheny River:
At downstream corporate limits | *768
Approximately 0.27 mile downstream of upstream corporate limits | *769
Maps available for inspection at the Freeport Borough Council Chambers, 414 Market Street, Freeport, Pennsylvania.
———
Gilpin (Township), Armstrong County (FEMA Docket No. 7291)
Allegheny River:
Approximately 1,420 feet downstream of Lock and Dam No. 5 | *771
Approximately 150 feet upstream of Lock and Dam No. 5 | *775
Kiskiminetas River:
At confluence with the Allegheny River | *771
Approximately 1,400 feet upstream of the confluence with the Allegheny River | *771
Maps available for inspection at the Gilpin Township Municipal Building, Route 66, Leechburg, Pennsylvania.
———
South Buffalo (Township), Armstrong County (FEMA Docket No. 7291)
Allegheny River:
Approximately 600 feet downstream of CONRAIL | *770
Approximately 125 feet upstream of Lock and Dam No. 5 | *775
Maps available for inspection at the South Buffalo Township Municipal Office, 384 Iron Bridge Road, Freeport, Pennsylvania.
TENNESSEE
Dyer County (Unincorporated Areas) (FEMA Docket No. 7303)
Obion River:
Approximately 75 feet downstream of the Tennessee Kentucky Railroad | *270
Approximately 2.81 miles upstream of State Route 78 | *279
Jones Creek:
Approximately 1,400 feet upstream of the confluence of Light Creek | *287
Approximately 1.4 miles upstream of the confluence of Light Creek | *289
Maps available for inspectionat the Dyer County Courthouse, Building Inspector's Office, #1 Veteran's Square, Dyersburg, Tennessee.
———
Greeneville (Town), Greene County (FEMA Docket No. 7303)
Frank Creek:
Approximately 375 feet downstream of Tusculum Boulevard | *1,424
Approximately 750 feet upstream of Viking View Estates Road | *1,458
Richland Creek:
Approximately 1,550 feet downstream of East McKee Street | *1,431
Approximately 2,150 feet upstream of East Church Street | *1,486
Maps available for inspection at the Greeneville Town Hall, 200 North College Street, Greeneville, Tennessee.
———
Sweetwater (City), Monroe County (FEMA Docket No. 7303)
Sweetwater Creek:
Approximately 0.33 mile downstream of Southern Railway | *903
Approximately 200 feet downstream of State Route 68 | *917
Maps available for inspection at the Sweetwater City Hall, 203 Monroe Street, Sweetwater, Tennessee.
VERMONT
Bellows Falls (Village), Windham County (FEMA Docket No. 7303)
Connecticut River:
At a point approximately 0.85 mile upstream from Bellows Falls Dam | *299
At a point approximately 500 feet upstream of Bellows Falls Dam | *296
Maps available for inspection at the Town of Rockingham , Town Clerk's Office, Village Square, Rockingham, Vermont.
———
Rockingham (Town), Windham County (FEMA Docket No. 7303)
Connecticut River:
A point approximately 0.78 mile upstream of Bellows Falls Dam | *300
A point approximately 1.34 miles upstream of the confluence of Commissary Brook | *306
Williams River:
At the confluence with the Connecticut River | *302
A point approximately 80 feet upstream of U.S. Route 5 | *302
Maps available for inspection at the Rockingham Town Hall, Clerk's Office, Village Square, Rockingham, Vermont.
WEST VIRGINIA
Jackson County (Unincorporated Areas) (FEMA Docket No. 7303)
Mill Creek:
Just downstream of State Highway 87 | *589
Just downstream of County Highway 21 | *599
———
Maps available for inspection at the Jackson County Courthouse, Main Street, Ripley, West Virginia.
Ripley (City), Jackson County (FEMA Docket No. 7303)
Mill Creek:
Approximately 450 feet downstream of U.S. Route 33 | *593
At confluence of Sycamore Creek | *595
At upstream corporate limits | *599
———
Maps available for inspection at the Ripley Municipal Building, 113 South Church Street, Ripley, West Virginia.

(Catalog of Federal Domestic Assistance No. 83.100, “Flood Insurance.”)

Dated: March 31, 2000.
Michael J. Armstrong,
Associate Director for Mitigation.

[FR Doc. 00-9068 Filed 4-11-00; 8:45 am]

BILLING CODE 6718-04-P